SECURITIES AND EXCHANGE COMMISSION

Issuer Delisting; Notice of Application to Withdraw from Listing and Registration; (MAXXAM Inc., Common Stock, $4.50 Par Value,) File No. 1-03924

August 10, 2000.

MAXXAM Inc. (“Company”) has filed applications with the Securities and Exchange Commission (“Commission”), pursuant to Section 12(d) of the Security Exchange Act of 1934 (“Act”) ¹ and Rule 12d2-2(d) thereunder,² to withdraw its Common Stock, $.50 par value (“Security”), from listing and registration on the Pacific Exchange, Inc. (“PCX”) and on the Philadelphia Stock Exchange, Inc. (“Phlx”)

¹ 15 U.S.C. 78l(d).

² 17 CFR 240.12d2-2(d).

In its filings with the Commission, the Company cited the following factors in support of the decision to withdraw its Security form listing and registration on the PCX and the Phlx:

The Security is currently listed and registered on the American Stock Exchange LLC (“Amex”) as well as the PCX and Phlx. The Company believes that no advantage exists in maintaining listings for the Security on the regional exchanges and that these additional listings have resulted in unnecessary expenses to the Company not justified by the low volume of trading on the PCX and the Phlx.

The Company has stated that it has complied with the respective rules of he PCX and Phlx governing withdrawals of securities. The PCX and Phlx have each in turn indicated to the Company that they have no objection to the Security's withdrawal.

The Company's application relates solely to the withdrawal of the Security from listing and registration on the PCX and Phlx and shall have not effect upon the Security's continued listing and registration on the Amex. By reason of Section 12(b) of he Act ³ and the rules and regulations of the Commission thereunder, the Company shall continue to be obligated to file reports with the Commission under Section 13 of the Act.⁴

³ 15 U.S.C. 78l(b).

⁴ 15 U.S.C. 78n.

Any interested person may, on or before August 31, 2000, submit by letter to the Secretary of the Securities and Exchange Commission, 450 Fifth Street, NW., Washington, DC 20549-0609, facts bearing upon whether the application has been made in accordance with the rules of the PCX and Phlx and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 00-20790 Filed 8-15-00; 8:45 am]

BILLING CODE 8010-01-M